DEPARTMENT OF TRANSPORTATION

Federal Aviation Administration

14 CFR Part 39

[Docket No. 2002-NM-17-AD; Amendment 39-13559; AD 2004-07-15]

RIN 2120-AA64

Airworthiness Directives; Airbus Model A321-111, -112, and -131 Series Airplanes

AGENCY: Federal Aviation Administration, DOT.

ACTION: Final rule; request for comments.

SUMMARY: This amendment supersedes an existing airworthiness directive (AD); applicable to certain Airbus Model A321-111, -112, and -131 series airplanes; that currently requires repetitive inspections to detect fatigue cracking in the area surrounding certain attachment holes of the forward pintle fittings of the main landing gear (MLG) and the actuating cylinder anchorage fittings on the inner rear spar; and repair, if necessary. The existing AD also provides for optional terminating action for the repetitive inspections. This amendment revises the inspection threshold and repetitive intervals for the currently required repetitive inspections. The actions specified in this AD are intended to detect and correct fatigue cracking on the inner rear spar of the wings, which could result in reduced structural integrity of the airplane. This action is intended to address the identified unsafe condition.

DATES: Effective April 21, 2004.

The incorporation by reference of a certain publication listed in the regulations is approved by the Director of the Federal Register as of April 21, 2004.

The incorporation by reference of Airbus Service Bulletin A320-57-1101, dated July 24, 1997, as listed in the regulations, was approved previously by the Director of the Federal Register as of December 18, 1998 (63 FR 66753, December 3, 1998).

Comments for inclusion in the Rules Docket must be received on or before May 6, 2004.

ADDRESSES: Submit comments in triplicate to the Federal Aviation Administration (FAA), Transport Airplane Directorate, ANM-114, Attention: Rules Docket No. 2002-NM-17-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-17-AD” in the subject line and need not be submitted in triplicate. Comments sent via the Internet as attached electronic files must be formatted in Microsoft Word 97 or 2000 or ASCII text.

The service information referenced in this AD may be obtained from Airbus, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: On November 25, 1998, the FAA issued AD 98-25-05, amendment 39-10928 (63 FR 66753, December 3, 1998); applicable to certain Airbus Model A321-111, -112, and -131 series airplanes; to require repetitive inspections to detect fatigue cracking in the area surrounding certain attachment holes of the forward pintle fittings of the main landing gear (MLG) and the actuating cylinder anchorage fittings on the inner rear spar; and repair, if necessary. That AD also provides for optional terminating action for the repetitive inspections. That action was prompted by issuance of mandatory continuing airworthiness information by a civil airworthiness authority. The actions required by that AD are intended to detect and correct fatigue cracking on the inner rear spar of the wings, which could result in reduced structural integrity of the airplane.

Actions Since Issuance of Previous Rule

Since the issuance of that AD, Airbus has carried out a survey of the family fleet of Model A320 airplanes (which includes Model A321 series airplanes). The results of this survey indicate that the weight of fuel at landing and mean flight duration for in-service airplanes are higher than the figures defined for the analysis of fatigue-related tasks. These findings have led to an adjustment of the A320 family reference fatigue mission.

Explanation of Relevant Service Information

Airbus has issued Service Bulletin A320-57-1101, Revision 02, dated October 25, 2001. (The existing AD refers to the original issue of that service bulletin, dated July 24, 1997, as the acceptable source of service information for the actions required by that AD.) The procedures in Revision 02 are the same as those in Revision 01. However, per the survey results described previously, the recommended inspection thresholds and intervals for the inspections have been revised to be expressed in terms of both flight cycles and flight hours. Accomplishment of the actions specified in the service bulletin is intended to adequately address the identified unsafe condition. The Direction Générale de l'Aviation Civile (DGAC), which is the airworthiness authority for France, classified this service bulletin as mandatory and issued French airworthiness directive 2001-633(B), dated December 26, 2001, to ensure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD supersedes AD 98-25-05 to continue to require repetitive inspections to detect fatigue cracking in the area surrounding certain attachment holes of the forward pintle fittings of the MLG and the actuating cylinder anchorage fittings on the inner rear spar; and repair, if necessary. The AD also continues to provide optional terminating action for the repetitive inspections. This AD revises the initial inspection threshold to express it in terms of both flight cycles and flight hours, and reduces the repetitive inspection intervals. The actions are required to be accomplished in accordance with the service bulletin described previously, except as discussed below.

Operators should note that, in consonance with the findings of the DGAC, we have determined that the repetitive inspections required by this AD can be allowed to continue in lieu of accomplishment of a terminating action. In making this determination, we consider that, in this case, long-term continued operational safety will be adequately assured by accomplishing the repetitive inspections to detect cracking before it represents a hazard to the airplane.

Differences Between AD and Referenced Service Bulletin

Operators should note that, although the service bulletin specifies that the manufacturer may be contacted for disposition of cracking conditions in the area surrounding certain attachment holes of the forward pintle fittings of the MLG, this AD requires the repair of the fatigue cracking to be accomplished in accordance with a method approved by either us or the DGAC (or its delegated agent). In light of the type of repair that will be required to address the identified unsafe condition, and in consonance with existing bilateral airworthiness agreements, we have determined that, for this AD, a repair approved by either us or the DGAC is acceptable for compliance with this AD.

Operators also should note that, although the Accomplishment Instructions of the referenced service bulletin describe procedures for submitting a comment sheet related to service bulletin quality and a sheet recording compliance with the service bulletin, this AD does not require those actions. We do not need this information from operators.

Explanation of Changes to Part 39

On July 10, 2002, the FAA issued a new version of 14 CFR part 39 (67 FR 47997, July 22, 2002), which governs the FAA's airworthiness directives system. The regulation now includes material that relates to altered products, special flight permits, and alternative methods of compliance (AMOC). Because we have now included this material in part 39, only the office authorized to approve AMOCs is identified in each individual AD. Therefore, paragraph (d) and Note 1 of AD 98-25-05 are not included in this AD, and paragraph (c) of AD 98-25-05 has been revised and included as paragraph (f) of this AD.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

The new requirements of this AD add no additional economic burden. The current costs for this AD are repeated for the convenience of affected operators, as follows:

Should an affected airplane be imported and placed on the U.S. Register in the future, it would require approximately 20 work hours to accomplish the required actions, at an average labor rate of $65 per work hour. Based on these figures, the cost impact of this AD would be $1,300 per airplane.

Should an operator elect to accomplish the optional terminating action that is provided by this AD action, it would take approximately 520 work hours to accomplish, at an average labor rate of $65 per work hour. The cost of required parts would be approximately $17,540 per airplane. Based on these figures, the cost impact of the optional terminating action would be $51,340 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-17-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10928 (63 FR 66753, December 3, 1998), and by adding a new airworthiness directive (AD), amendment 39-13559, to read as follows:

2004-07-15 Airbus: Amendment 39-13559. Docket 2002-NM-17-AD. Supersedes AD 98-25-05, Amendment 39-10928.

Applicability: Model A321-111, -112, and -131 series airplanes; except those on which Airbus Modification 24977 has been accomplished during production, or on which Airbus Modification 26010 has been accomplished; certificated in any category.

Compliance: Required as indicated, unless accomplished previously.

To detect and correct fatigue cracking on the inner rear spar of the wings, which could result in reduced structural integrity of the airplane, accomplish the following:

Requirements of AD 98-25-05

Repetitive Inspections and Corrective Actions

(a) Prior to the accumulation of 20,000 total flight cycles, or within 120 days after December 18, 1998 (the effective date of AD 98-25-05, amendment 39-10928), whichever occurs later, perform an ultrasonic inspection to detect fatigue cracking in the area surrounding certain attachment holes of the forward pintle fittings of the main landing gear (MLG) and the actuating cylinder anchorage fittings on the inner rear spar, in accordance with Airbus Service Bulletin A320-57-1101, dated July 24, 1997; or Revision 02, dated October 25, 2001.

(1) If no cracking is detected, prior to further flight, repair the sealant in the inspected areas and repeat the ultrasonic inspections thereafter at intervals not to exceed 7,700 flight cycles, until paragraph (b) or (d) of this AD is accomplished.

(2) If any cracking is detected, prior to further flight, repair in accordance with a method approved by either the Manager, International Branch, ANM-116, Transport Airplane Directorate, FAA; or the Direction Générale de l'Aviation Civile (DGAC) (or its delegated agent).

Optional Terminating Action

(b) Accomplishment of visual and eddy current inspections to detect cracking in the area surrounding certain attachment holes of the forward pintle fittings of the MLG and the actuating cylinder anchorage fittings on the inner rear spar; follow-on corrective actions, as applicable; and rework of the attachment holes; in accordance with Airbus Service Bulletin A320-57-1100, dated July 28, 1997, constitutes terminating action for the repetitive inspection requirements of this AD. If any cracking is detected during accomplishment of any inspection described in the service bulletin, and the service bulletin specifies to contact Airbus for appropriate action: Prior to further flight, repair in accordance with a method approved by either the Manager, International Branch, ANM-116, or the DGAC (or its delegated agent).

New Requirements of This AD

Repetitive Inspections for Airplanes Not Previously Inspected Per Paragraph (a)

(c) For airplanes on which the initial inspection required by paragraph (a) of this AD has not been accomplished as of the effective date of this AD: Accomplish the inspection required by paragraph (a) of this AD, at the earlier of the times specified in paragraphs (c)(1) and (c)(2) of this AD. If no cracking is found, repeat the inspection thereafter at intervals not to exceed 5,500 flight cycles or 10,200 flight hours, whichever occurs first, until paragraph (b) of this AD is accomplished. Accomplishment of this paragraph eliminates the need to accomplish repetitive inspections at the intervals required by paragraph (a)(1) of this AD.

(1) Prior to the accumulation of 20,000 total flight cycles.

(2) Prior to the accumulation of 37,300 total flight hours, or within 120 days after the effective date of this AD, whichever occurs later.

Repetitive Inspections for Airplanes Previously Inspected Per Paragraph (a)

(d) For airplanes on which the initial inspection required by paragraph (a) of this AD has been accomplished as of the effective date of this AD, and no cracking was found: Do the next inspection at the earlier of the times specified in paragraphs (d)(1) or (d)(2) of this AD, and repeat the inspection thereafter at intervals not to exceed 5,500 flight cycles or 10,200 flight hours, whichever occurs first, until paragraph (b) of this AD is accomplished. Accomplishment of this paragraph terminates the repetitive inspections required by paragraph (a)(1) of this AD.

(1) Within 7,700 flight cycles since the most recent inspection.

(2) At the later of the times specified in paragraph (d)(2)(i) or (d)(2)(ii) of this AD:

(i) Within 5,500 flight cycles or 10,200 flight hours since the most recent inspection, whichever occurs first.

(ii) Within 120 days after the effective date of this AD.

Repair

(e) If any cracking is detected during any inspection required by paragraph (c) or (d) of this AD: Prior to further flight, repair in accordance with a method approved by either the Manager, International Branch, ANM-116, Transport Airplane Directorate, FAA; or the Direction Générale de l'Aviation Civile (DGAC) (or its delegated agent).

No Reporting Requirement

(f) Although Airbus Service Bulletin A320-57-1101, Revision 02, dated October 25, 2001, specifies to submit certain information to the manufacturer, this AD does not include such a requirement.

Alternative Methods of Compliance

(g) In accordance with 14 CFR 39.19, the Manager, International Branch, ANM-116, is authorized to approve alternative methods of compliance for this AD.

Incorporation by Reference

(h) Unless otherwise provided by this AD, the actions shall be done in accordance with Airbus Service Bulletin A320-57-1101, dated July 24, 1997; or Airbus Service Bulletin A320-57-1101, Revision 02, dated October 25, 2001.

(1) The incorporation by reference of Airbus Service Bulletin A320-57-1101, Revision 02, dated October 25, 2001; is approved by the Director of the Federal Register, in accordance with 5 U.S.C. 552(a) and 1 CFR part 51.

(2) The incorporation by reference of Airbus Service Bulletin A320-57-1101, dated July 24, 1997; was approved previously by the Director of the Federal Register as of December 18, 1998 (63 FR 66753, December 3, 1998).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2001-633(B), dated December 26, 2001.

Effective Date

(h) This amendment becomes effective on April 21, 2004.

Issued in Renton, Washington, on March 25, 2004.
Kalene C. Yanamura,
Acting Manager, Transport Airplane Directorate, Aircraft Certification Service.

[FR Doc. 04-7354 Filed 4-5-04; 8:45 am]

BILLING CODE 4910-13-P